POSTAL REGULATORY COMMISSION

[Docket No. MT2014-1; Order No. 3424]

Market Test of Experimental Product-Customized Delivery

AGENCY: Postal Regulatory Commission.

ACTION: Notice.

SUMMARY: The Commission is noticing a recently-filed Postal Service request to extend the Customized Delivery market test for one additional year and expand the market test to a number of additional markets. This notice informs the public of the filing, invites public comment, and takes other administrative steps.

DATES: Comments are due: July 27, 2016.

ADDRESSES: Submit comments electronically via the Commission's Filing Online system at http://www.prc.gov. Those who cannot submit comments electronically should contact the person identified in the FOR FURTHER INFORMATION CONTACT section by telephone for advice on filing alternatives.

FOR FURTHER INFORMATION CONTACT: David A. Trissell, General Counsel, at 202-789-6820.

SUPPLEMENTARY INFORMATION:

Table of Contents

I. Introduction

II. Notice of Filing and Designation of Substitute Public Representative

III. Ordering Paragraphs

I. Introduction

On July 8, 2016, the Postal Service filed a request, pursuant to 39 U.S.C. 3641(d)(2) and Order No. 2224, to extend the Customized Delivery market test for an additional year and to expand the market test to other markets during this additional year.¹ Customized Delivery is a package delivery service offering that provides customers with delivery of groceries and other prepackaged goods. Order No. 2224 at 1. The Postal Service formally implemented the Customized Delivery market test on November 1, 2014, in the San Francisco Metropolitan area. Request at 1. It expanded the market into the following metropolitan areas: Los Angeles, CA; San Diego, CA; New York City, NY; Sacramento, CA; Stamford, CT; and Las Vegas, NV.²

¹ Request of the United States Postal Service for Extension of Customized Delivery Market Test, July 8, 2016 (Request). See also Order No. 2224, Order Authorizing Customized Delivery Market Test, October 23, 2014.

² Request at 1; see Notice of the United States Postal Service of Expansion of Customized Delivery Market Test, February 20, 2015; Notice of the United States Postal Service of Expansion of Customized Delivery Market Test, June 18, 2015; Notice of the United States Postal Service of Expansion of Customized Delivery Market Test, January 22, 2016.

During the extension the Postal Service plans to continue the market test in the metropolitan areas in which it currently operates. Request at 1. It also “intends to expand the Customized Delivery market test to a number of additional markets over the next year, so that [it] can examine the market in a wider range of metropolitan areas.” ld. The Postal Service asserts that it must continue the market test in a variety of metropolitan areas during the next year to determine the operational feasibility and desirability of adding Customized Delivery as a permanent product. ld. at 1-2.

The Customized Delivery market test is currently scheduled to expire on October 31, 2016. Id. at 1. In the Request, the Postal Service requests to extend the market test for one additional year, until October 31, 2017, and to expand the market test into other metropolitan areas. Id. at 1-2. The Postal Service represents that all other aspects of the Customized Delivery market test remain unchanged and comply with 39 U.S.C. 3641 and Order No. 2224. ld. at 2.

II. Notice of Filing and Designation of Substitute Public Representative

The Commission reopens Docket No. MT2014-1 to consider matters raised by the Postal Service's Request. The Commission invites comments on whether the Request complies with applicable statutory and regulatory requirements, including 39 U.S.C. 3641, 39 CFR part 3035, and Order No. 2224. Comments are due no later than July 27, 2016. The public portions of these filings can be accessed via the Commission's Web site (http://www.prc.gov).

39 U.S.C. 505 requires the Commission to designate an officer of the Commission to represent the interests of the general public in all public proceedings (Public Representative). The Public Representative previously designated in Order No. 2197 is no longer able to serve.³ In light of that circumstance, the Commission designates Lauren A. D'Agostino to serve as the substitute Public Representative to represent the interests of the general public in this docket.

³ See Notice and Order Concerning Market Test of Experimental Product—Customized Delivery, September 25, 2014, at 4 (Order No. 2197).

III. Ordering Paragraphs

It is ordered:

1. The Commission reopens Docket No. MT2014-1 to consider matters raised by the Postal Service's Request.

2. Pursuant to 39 U.S.C. 505, the Commission designates Lauren A. D'Agostino to serve as the substitute Public Representative to represent the interests of the general public in this docket.

3. Comments are due no later than July 27, 2016.

4. The Secretary shall arrange for publication of this order in the Federal Register.

By the Commission.
Stacy L. Ruble,
Secretary.

[FR Doc. 2016-16823 Filed 7-15-16; 8:45 am]

BILLING CODE 7710-FW-P